NUCLEAR REGULATORY COMMISSION

[Docket No. 040-8027; NRC-2008-0300]

Notice of License Amendment for the Sequoyah Fuels Corporation's Facility at Gore, OK

AGENCY: Nuclear Regulatory Commission.

ACTION: Notice of Action.

FOR FURTHER INFORMATION CONTACT: Ken Kalman, Project Manager, Decommissioning and Uranium Recovery Licensing Directorate, Division of Waste Management and Environmental Protection, Office of Federal and State Materials and Environmental Management Programs, U.S. Nuclear Regulatory Commission, Washington, DC 20555-0001; Telephone: (301) 415-6664; fax number: (301) 415-5369; e-mail: kenneth.kalman@nrc.gov.

SUPPLEMENTARY INFORMATION:

I. Introduction

The NRC is considering issuance of a license amendment to Sequoyah Fuels Corporation (SFC or licensee) for License No. SUB-1010. This action will approve the licensee's Reclamation Plan for its Gore, Oklahoma site, thereby authorizing (1) the excavation of contaminated soil and buried waste located there; and (2) the construction of an onsite disposal cell to isolate these wastes from the environment. In cooperation with the Environmental Protection Agency, the NRC in May 2008 published NUREG-1888, an Environmental Impact Statement (EIS) in support of this site reclamation action.

II. Proposed Action

Approval of the Reclamation Plan will facilitate decommissioning and the eventual termination of License No. SUB-1010. Remediation of existing ground water contamination is not part of the proposed action. SFC has submitted a ground water corrective action plan that is still under NRC staff review. However, implementation of the Reclamation Plan will facilitate the subsequent clean-up of the site's ground water.

As identified by SFC, the proposed reclamation consists of the following elements:

• Construction of an above-grade, engineered disposal cell on the SFC site for permanent disposition of the SFC decommissioning and reclamation wastes;

• Removal of sludges and sediments from the ponds and lagoons, excavation of buried low-level wastes, removal of stored soils and debris, and placement of these materials into the disposal cell;

• Dismantlement of process equipment, followed by recovery of gross quantities of contained uranium;

• Size reduction/compaction of process equipment, piping, and structural materials (including scrap metal, empty drums, and packaged wastes that will accumulate before decommissioning) to satisfy disposal requirements for maximum void volume;

• Dismantlement/demolition of structures except for the new SFC administrative office building and the storm water impoundment;

• Demolition of concrete floors, foundations, and storage pads and asphalt or concrete paved roadways outside the footprint of the cell;

• Removal of clay liners and/or contaminated soils from under impoundments;

• Excavation of underground utilities, contaminated sand backfill from utility trenches and building foundation areas, and more highly contaminated soils under the cell footprint;

• Excavation of contaminated soils lying outside the footprint of the disposal cell that exceed site-specific radiological cleanup criteria;

• Handling and treatment of produced ground water and storm water during cell construction;

• Placement of all SFC decommissioning wastes into the onsite disposal cell, followed by capping and closure of the cell; and

• Regrading of the site, backfilling of excavations to the finished grade, and revegetation.

III. NRC Review

The NRC staff reviewed the licensee's reclamation plan in accordance with NUREG-1620, “Standard Review Plan for the Review of a Reclamation Plan for Mill Tailings Sites Under Title II of the Uranium Mill Tailings Radiation Control Act of 1978,” Final Revision 1, issued June 2003. The review is a comprehensive assessment of SFC's reclamation plan. Most of the contaminated material is classified under Appendix A to 10 CFR part 40 as Section 11e.(2) byproduct material. Appendix A to 10 CFR part 40 contains the technical requirements for disposition of Section 11e.(2) byproduct material. Following the guidance provided in NUREG-1620, the NRC staff's review of SFC's reclamation plan was organized by the technical disciplines involved in the assessment of the reclamation plan to ensure compliance with Appendix A. The staff's review covered such considerations as geologic, seismic, geotechnical, and surface erosional aspects of long-term stability, the compliance with ground water standards, radiation protection including radon emanation controls, and SFC's proposal to include placing the onsite radioactive waste that cannot be classified as 11e.(2) byproduct material in the disposal cell.

SFC's request for the proposed amendment was previously noticed in the Federal Register on May 28, 2008 (73 FR 30646-30647) with a Notice of an Opportunity to Request a Hearing. No comments or request for a hearing were received.

The EIS documented the NRC staff's determination that all steps in the proposed reclamation could be accomplished in compliance with the NRC public and occupational dose limits, effluent release limits, and residual radioactive material limits. In addition, the EIS concluded that approval of the proposed action, in accordance with the commitments in NRC License SUB-1010 and the final reclamation plan, would not result in a significant adverse impact on the environment.

The safety findings (required by the Atomic Energy Act of 1954, as amended) necessary to support the approval of the Reclamation Plan are documented in a Safety Evaluation Report (SER) that will be issued in connection with this license amendment.

IV. Further Information

Documents related to this action, including the application for amendment and supporting documentation, are available electronically at the NRC's Electronic Reading Room at http://www.nrc.gov/reading-rm/adams.html. From this site, you can access the NRC's Agencywide Documents Access and Management System (ADAMS), which provides text and image files of NRC's public documents. The ADAMS accession numbers for the documents related to this notice are: SFC's letter to NRC dated January 4, 2008, ML080220345; Final EIS prepared for this action, ML081300103; Federal Register Notice for this license amendment, ML090780157, and Safety Evaluation Report, ML090260323. If you do not have access to ADAMS, or if there are problems in accessing the documents located in ADAMS, contact the NRC Public Document Room reference staff at 1-800-397-4209, 301-415-4737, or by e-mail to pdr.resource@nrc.gov.

Any questions should be referred to Kenneth Kalman, Division of Waste Management and Environmental Protection, U.S. Nuclear Regulatory Commission, Washington DC 20555, Mailstop T-8F5, telephone (301) 415-6664, fax (301) 415-5369.

Dated at Rockville, Maryland, this 20th day of April 2009.
For the Nuclear Regulatory Commission.
Keith I. McConnell,
Deputy Director, Decommissioning and Uranium Recovery Licensing Directorate, Division of Waste Management and Environmental Protection, Office of Federal and State Materials and Environmental Management Programs.

[FR Doc. E9-9624 Filed 4-27-09; 8:45 am]

BILLING CODE 7590-01-P